DEPARTMENT OF ENERGY

Federal Energy Regulatory Commission

Combined Notice of Filings #2

Take notice that the Commission received the following electric rate filings:

Docket Numbers: ER10-2374-010; ER12-673-008; ER12-672-008.

Applicants: Puget Sound Energy, Inc., Brea Generation LLC, Brea Power II LLC.

Description: Supplement to March 9, 2016 Notice of Non-Material Change in Status of Puget Sound Energy, Inc., et al.

Filed Date: 7/27/16.

Accession Number: 20160727-5158.

Comments Due: 5 p.m. ET 8/17/16.

Docket Numbers: ER12-1995-002; ER12-199-012.

Applicants: RET Modesto Solar LLC, Coram California Development, L.P.

Description: Notice of Non-Material Change in Status and Request for Expedited Consideration of RET Modesto Solar, LLC, et al.

Filed Date: 7/28/16.

Accession Number: 20160728-5095.

Comments Due: 5 p.m. ET 8/18/16.

Docket Numbers: ER16-1051-001.

Applicants: Graphic Packaging International Inc.

Description: Report Filing: Refund Report of Graphic Packaging International, Inc. to be effective N/A.

Filed Date: 7/28/16.

Accession Number: 20160728-5118.

Comments Due: 5 p.m. ET 8/18/16.

Docket Numbers: ER16-2300-000.

Applicants: PJM Interconnection, L.L.C.

Description: Tariff Cancellation: Notice of Cancellation of SA No. 4052, Queue W3-158 to be effective 9/20/2016.

Filed Date: 7/28/16.

Accession Number: 20160728-5043.

Comments Due: 5 p.m. ET 8/18/16.

Docket Numbers: ER16-2301-000.

Applicants: Chaves County Solar, LLC.

Description: Baseline eTariff Filing: Chaves County Solar, LLC, Filing of Shared Facilities Agreement to be effective 9/26/2016.

Filed Date: 7/28/16.

Accession Number: 20160728-5053.

Comments Due: 5 p.m. ET 8/18/16.

Docket Numbers: ER16-2302-000.

Applicants: NorthWestern Corporation.

Description: Section 205(d) Rate Filing: SA 784—Agreement with CHS Inc. dba CHS Big Sky re 69kV reroute to be effective 7/29/2016.

Filed Date: 7/28/16.

Accession Number: 20160728-5060.

Comments Due: 5 p.m. ET 8/18/16.

Docket Numbers: ER16-2303-000.

Applicants: Pacific Gas and Electric Company.

Description: Section 205(d) Rate Filing: Quarterly Filing of City and County of San Francisco's WDT SA 275 for Q2 2016 to be effective 6/30/2016.

Filed Date: 7/28/16.

Accession Number: 20160728-5062.

Comments Due: 5 p.m. ET 8/18/16.

Docket Numbers: ER16-2304-000.

Applicants: Duke Energy Florida, LLC.

Description: Section 205(d) Rate Filing: DEF Telogia Power and G2 Energy GIAs to be effective 9/26/2016.

Filed Date: 7/28/16.

Accession Number: 20160728-5072.

Comments Due: 5 p.m. ET 8/18/16.

Docket Numbers: ER16-2305-000.

Applicants: PJM Interconnection, L.L.C.

Description: Section 205(d) Rate Filing: Amendment to Original Service Agreement No. 3771, Queue Position Y1-033 to be effective 2/4/2014.

Filed Date: 7/28/16.

Accession Number: 20160728-5091.

Comments Due: 5 p.m. ET 8/18/16.

Docket Numbers: ER16-2306-000.

Applicants: Southern California Edison Company.

Description: Section 205(d) Rate Filing: SCE Amendments to WDAT GIP to be effective 7/29/2016.

Filed Date: 7/28/16.

Accession Number: 20160728-5116.

Comments Due: 5 p.m. ET 8/18/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 28, 2016.
Nathaniel J. Davis, Sr.,
Deputy Secretary.

[FR Doc. 2016-18456 Filed 8-3-16; 8:45 am]

BILLING CODE 6717-01-P